DEPARTMENT OF LABOR

Employment and Training Administration

[TA-W-64,342]

Hyosung (America), Inc.; American Steel Cord Including On-Site Leased Workers From CBS Personnel Services and EMS (Environmental Management Solutions, Inc.), Scottsburg, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 20, 2008, applicable to workers of Hysung (America), Inc., American Steel Cord, including on-site leased workers from CBS Personnel Services, Scottsburg, Indiana. The notice was published in the Federal Register on December 10, 2008 (73 FR 75135).

At the request of the State agency, the Department reviewed the certification for workers of the subject firm. The workers are engaged in the production of steel tire cords.

New information shows that workers leased from EMS (Environmental Management Solutions, Inc.) were employed on-site at the Scottsburg, Indiana location of Hyosung (America), Inc. The Department has determined that these workers were sufficiently under the control of Hyosung (America), Inc. to be considered leased workers.

Based on these findings, the Department is amending this certification to include workers leased from EMS (Environmental Management Solutions, Inc.) working on-site at the Scottsburg, Indiana location of the subject firm.

The intent of the Department's certification is to include all workers employed at Hyosung (America), Inc., Scottsburg, Indiana who were adversely affected by increased imports following a shift in production of steel tire cords to China and South Korea.

The amended notice applicable to TA-W-64,342 is hereby issued as follows:

All workers of Hyosung (America), Inc., American Steel Cord, including on-site leased workers of CBS Personnel Services and EMS (Environmental Management Solutions, Inc.), Scottsburg, Indiana, who became totally or partially separated from employment on or after November 3, 2007 through November 20, 2010, are eligible to apply for adjustment assistance under Section 223 of the Trade Act of 1974, and are also eligible to apply for alternative trade adjustment assistance under Section 246 of the Trade Act of 1974.

Signed at Washington, DC, this 14th day of December 2008.
Elliott S. Kushner,
Certifying Officer, Division of Trade Adjustment Assistance.

[FR Doc. E9-2140 Filed 1-30-09; 8:45 am]

BILLING CODE 4510-FN-P